DEPARTMENT OF ENERGY

Federal Energy Regulatory Commission

Combined Notice of Filings #2

Take notice that the Commission received the following electric rate filings:

Docket Numbers: ER11-2547-005.

Applicants: New York Independent System Operator, Inc.

Description: NYISO Compliance Filing re: 15 Minute Variable Scheduling to be effective 6/20/2012.

Filed Date: 6/6/12.

Accession Number: 20120606-5078.

Comments Due: 5 p.m. ET 6/27/12.

Docket Numbers: ER12-1170-003.

Applicants: Imperial Valley Solar Company (IVSC) 1, LLC.

Description: Amendment to Market-Based Rate Application—new effective date to be effective 6/12/2012.

Filed Date: 6/6/12.

Accession Number: 20120606-5046.

Comments Due: 5 p.m. ET 6/27/12.

Docket Numbers: ER12-1964-000.

Applicants: Wisconsin Electric Power Company.

Description: Wisconsin Electric Power Company submits Notice of Cancellation.

Filed Date: 6/6/12.

Accession Number: 20120606-5092.

Comments Due: 5 p.m. ET 6/27/12.

Docket Numbers: ER12-1965-000.

Applicants: Wisconsin Electric Power Company.

Description: Wisconsin Electric Power Company submits Notice of Cancellation.

Filed Date: 6/6/12.

Accession Number: 20120606-5095.

Comments Due: 5 p.m. ET 6/27/12.

Docket Numbers: ER12-1966-000.

Applicants: Wisconsin Electric Power Company.

Description: Wisconsin Electric Power Company submits Notice of Cancellation.

Filed Date: 6/6/12.

Accession Number: 20120606-5096.

Comments Due: 5 p.m. ET 6/27/12.

Docket Numbers: ER12-1967-000.

Applicants: Wisconsin Electric Power Company.

Description: Wisconsin Electric Power Company submits Notice of Cancellation.

Filed Date: 6/6/12.

Accession Number: 20120606-5097.

Comments Due: 5 p.m. ET 6/27/12.

Take notice that the Commission received the following electric reliability filings.

Docket Numbers: RD12-4-000.

Applicants: North American Electric Reliability Corporation.

Description: North American Electric Reliability Corporation Petition for Approval of Errata Changes to Seven Reliability Standards.

Filed Date: 6/5/12.

Accession Number: 20120605-5160.

Comments Due: 5 p.m. ET 6/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 06, 2012.
Nathaniel J. Davis, Sr.,
Deputy Secretary.

[FR Doc. 2012-14364 Filed 6-12-12; 8:45 am]

BILLING CODE 6717-01-P